DEPARTMENT OF VETERANS AFFAIRS

Veterans' Rural Health Advisory Committee

Notice of Meeting

The Department of Veterans Affairs (VA) gives notice under the Federal Advisory Committee Act 5 U.S.C. App. 2 that the Veterans' Rural Health Advisory Committee will meet on June 27-29, 2017.

On June 27, from 9 a.m. to 5 p.m., the meeting will be held at the Loannis A. Louganis VA Medical Center (LAL VAMC), Tahoe Room—5th FL, 975 Kirman Avenue, Reno, NV. On June 28, from 9 a.m. to 4:30 p.m., the meeting will be at the Sierra Nevada Health Care System Patient Education Resource Center, 975 Kirman Avenue, Reno, Nevada. The Committee will also tour the following facilities:

Veterans Outreach Center, 350 Capitol Hill, Reno, Nevada;

Banner Community Hospital, 801 E. Williams Avenue, Fallon, Nevada;

Lahontan Valley Outpatient Clinic, 345 West A Street, Fallon, Nevada; and

American Legion Hall Post 16, 90 North Ada Street, Fallon, Nevada.

On June 29, the meeting will be from 8:30 a.m. to 5 p.m., at the LAL VAMC. From 8:30 a.m. to 9:30 a.m., the Committee will visit the Reno-Sparks Indian Colony—Tribal Health Center, 1715 Kuenzli Street, Reno, Nevada, and will resume at the LAL VAMC.

The purpose of the Committee is to advise the Secretary of Veterans Affairs on Health care issues that affect enrolled Veterans who reside in rural areas. The Committee examines programs and policies that impact the delivery of VA health care to rural Veterans, and recommend improvements.

The meeting will include updates from LAL VAMC leadership; Acting Executive Director of the Office of Rural Health; and Committee Chairwoman, as well as presentations by local health care subject matter experts.

Public comments will be received at 4:30 p.m. on June 29, 2017. Interested parties who plan to attend should contact Ms. Judy Bowie, by email at VRHAC@va.gov, or by fax 202-632-8609, or by mail at 810 Vermont Avenue NW., (10P1R), Washington, DC 20420. Individuals wishing to speak are invited to submit a 1-2 page summary of their comment for inclusion in the official meeting record.

Dated: May 24, 2017.
LaTonya L. Small,
Federal Advisory Committee Management Officer.

[FR Doc. 2017-11115 Filed 5-30-17; 8:45 am]

BILLING CODE P